DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Baldwin (FEMA Docket No.: B-1350) | City of Gulf Shores (13-04-3816P) | The Honorable Robert S. Craft, Mayor, City of Gulf Shores, P.O. Box 299, Gulf Shores, AL 36547 | Community Development Department, 1905 West 1st Street, Gulf Shores, AL 36547 | December 6, 2013 | 015005
Baldwin (FEMA Docket No.: B-1350) | City of Orange Beach (13-04-5100P) | The Honorable Anthony T. Kennon, Mayor, City of Orange Beach, 4099 Orange Beach Boulevard, Orange Beach, AL 36561 | Community Development Department, 4099 Orange Beach Boulevard, Orange Beach, AL 36561 | December 6, 2013 | 015011
Arizona:
Maricopa (FEMA Docket No.: B-1350) | City of Glendale (13-09-0441P) | The Honorable Jerry Weiers, Mayor, City of Glendale, 5850 West Glendale Avenue, Glendale, AZ 85301 | City Hall, 5850 West Glendale Avenue, Glendale, AZ 85301 | November 1, 2013 | 040045
Maricopa (FEMA Docket No.: B-1350) | City of Peoria (13-09-0441P) | The Honorable Bob Barrett, Mayor, City of Peoria, 8401 West Monroe Street, Peoria, AZ 85345 | City Hall, 8401 West Monroe Street, Peoria, AZ 85345 | November 1, 2013 | 040050
Maricopa (FEMA Docket No.: B-1350) | Unincorporated areas of Maricopa County (13-09-0441P) | The Honorable Andy Kunasek Chairman, Maricopa County Board of Supervisors, 301 West Jefferson, 10th Floor Phoenix, AZ 85003 | Maricopa County Flood Control District, 2801 West Durango Street, Phoenix, AZ 85009 | November 1, 2013 | 040037
Pima (FEMA Docket No.: B-1350) | City of Tucson (13-09-1006P) | The Honorable Jonathan Rothschild, Mayor, City of Tucson, 255 West Alameda, 10th Floor, Tucson, AZ 85701 | Planning and Development Services Division, 201 North Stone Avenue, 1st Floor, Tucson, AZ 85701 | November 28, 2013 | 040076
Pima (FEMA Docket No.: B-1350) | Unincorporated areas of Pima County (13-09-1006P) | The Honorable Ramon Valadez, Chairman, Pima County Board of Supervisors, 130 West Congress Street, 11th Floor, Tucson, AZ 85701 | Pima County Flood Control District, 97 East Congress Street, 3rd Floor, Tucson, AZ 85701 | November 28, 2013 | 040073
California:
Kern (FEMA Docket No.: B-1350) | City of Delano (13-09-2039P) | The Honorable Joe Aguirre, Mayor, City of Delano, P.O. Box 3010, Delano, CA 93216 | Community Development Department, 1015 11th Avenue, Delano, CA 93215 | December 6, 2013 | 060078
Kern (FEMA Docket No.: B-1350) | Unincorporated areas of Kern County (13-09-0488P) | The Honorable Mike Maggard, Chairman, Kern County Board of Supervisors, 1115 Truxtun Avenue, 5th Floor, Bakersfield, CA 93301 | Kern County Planning Department, 2700 M Street, Suite 100, Bakersfield, CA 93301 | November 28, 2013 | 060075
Los Angeles (FEMA Docket No.: B-1350) | City of Santa Clarita (13-09-1601P) | The Honorable Bob Kellar, Mayor, City of Santa Clarita, 23920 Valencia Boulevard, Santa Clarita, CA 91355 | Public Works Department, 23920 Valencia Boulevard, Santa Clarita, CA 91355 | December 6, 2013 | 060729
Merced (FEMA Docket No.: B-1350) | City of Merced (13-09-0938P) | The Honorable Stan Thurston, Mayor, City of Merced, 678 West 18th Street, Merced, CA 95340 | City Hall, 678 West 18th Street, Merced, CA 95340 | October 31, 2013 | 060191
Placer (FEMA Docket No.: B-1350) | City of Rocklin (13-09-2062P) | The Honorable Diana Ruslin, Mayor, City of Rocklin, 3970 Rocklin Road, Rocklin, CA 95677 | Engineering Department, 3970 Rocklin Road, Rocklin, CA 95677 | December 13, 2013 | 060242
Placer (FEMA Docket No.: B-1350) | Town of Loomis (13-09-2062P) | The Honorable Walt Scherer, Mayor, Town of Loomis, 3665 Taylor Road, Loomis, CA 95650 | Public Works and Engineering Department, 3665 Taylor Road, Loomis, CA 95650 | December 13, 2013 | 060721
Riverside (FEMA Docket No.: B-1350) | Unincorporated areas of Riverside County (13-09-2159P) | The Honorable John J. Benoit, Chairman, Riverside County Board of Supervisors, P.O. Box 1647, Riverside, CA 92502 | Riverside County Flood Control and Water Conservation District, 1995 Market Street, Riverside, CA 92502 | November 28, 2013 | 060245
San Bernardino (FEMA Docket No.: B-1350) | City of San Bernardino (13-09-1112P) | The Honorable Patrick J. Morris, Mayor, City of San Bernardino, 300 North D Street, 6th Floor, San Bernardino, CA 92418 | Water Department, 399 Chandler Place, San Bernardino, CA 92408 | November 29, 2013 | 060281
San Bernardino (FEMA Docket No.: B-1350) | Unincorporated areas of San Bernardino County (13-09-1112P) | The Honorable Janice Rutherford Chair, San Bernardino County Board of Supervisors, 385 North Arrowhead Avenue, 5th Floor, San Bernardino, CA 92415 | San Bernardino County Public Works Department, 825 East 3rd Street, San Bernardino, CA 92415 | November 29, 2013 | 060270
Colorado:
Adams (FEMA Docket No.: B-1350) | City of Thornton (13-08-0534P) | The Honorable Heidi Williams, Mayor, City of Thornton, 9500 Civic Center Drive, Thornton, CO 80229 | City Hall, 9500 Civic Center Drive, Thornton, CO 80229 | November 29, 2013 | 080007
Adams (FEMA Docket No.: B-1350) | Unincorporated areas of Adams County (13-08-0534P) | The Honorable Eva J. Henry, Chair, Adams County Board of Commissioners, 4430 South Adams County Parkway, Suite C5000A, Brighton, CO 80601 | Adams County Public Works Department, 4430 South Adams County Parkway, Suite W2123, Brighton, CO 80601 | November 29, 2013 | 080001
Arapahoe (FEMA Docket No.: B-1350) | City of Centennial (13-08-0357P) | The Honorable Cathy Noon, Mayor, City of Centennial, 13133 East Arapahoe Road, Centennial, CO 80112 | Southeast Metro Stormwater Authority, 76 Inverness Drive East, Suite A, Englewood, CO 80112 | November 8, 2013 | 080315
Arapahoe (FEMA Docket No.: B-1350) | Unincorporated areas of Arapahoe County (13-08-0357P) | The Honorable Rod Bockenfeld, Chairman, Arapahoe County Board of Commissioners, 5334 South Prince Street, Littleton, CO 80166 | Arapahoe County Public Works and Development Department, 6924 South Lima Street, Centennial, CO 80112 | November 8, 2013 | 080011
Eagle (FEMA Docket No.: B-1350) | Unincorporated areas of Eagle County (13-08-0339P) | The Honorable Jon Stavney, Chairman, Eagle County Board of Commissioners, P.O. Box 850, Eagle, CO 81631 | Eagle County Engineering Department, 500 Broadway Street, Eagle, CO 81631 | October 18, 2013 | 080051
Grand (FEMA Docket No.: B-1350) | Town of Winter Park (13-08-0301P) | The Honorable Jim Myers, Mayor, Town of Winter Park, P.O. Box 3327, Winter Park, CO 80482 | Town Hall, 50 Vasquez Road, Winter Park, CO 80482 | December 13, 2013 | 080305
Prowers (FEMA Docket No.: B-1350) | Unincorporated areas of Prowers County (13-08-0049P) | The Honorable Joe D. Marble, Chairman, Prowers County Board of Commissioners, 301 South Main Street, Lamar, CO 81052 | Prowers County Land Use Administrator, 301 South Main Street, Lamar, CO 81052 | November 18, 2013 | 080272
Weld (FEMA Docket No.: B-1350) | Unincorporated areas of Weld County (12-08-0826P) | The Honorable William Garcia, Chairman, Weld County Board of Commissioners, P.O. Box 758, Greely, CO 80632 | Weld County Public Works Department, 1111 H Street, Greely, CO 80632 | December 16, 2013 | 080266
Florida:
Broward (FEMA Docket No.: B-1350) | City of Hollywood (13-04-6046P) | The Honorable Peter J.M. Bober, Mayor, City of Hollywood, P.O. Box 229045, Hollywood, FL 33022 | City Hall, 2600 Hollywood Boulevard, Hollywood, FL 33020 | December 20, 2013 | 125113
Escambia (FEMA Docket No.: B-1350) | Pensacola Beach-Santa Rosa Island Authority (13-04-3378P) | The Honorable Thomas A. Campanella, DDS Chairman, Pensacola Beach-Santa Rosa Island Authority Board of Commissioners, P.O. Box 1208, Pensacola Beach, FL 32562 | Pensacola Beach-Santa Rosa Island Authority Development Department, 1 Via De Luna Drive, Pensacola Beach, FL 32561 | November 29, 2013 | 125138
Escambia (FEMA Docket No.: B-1350) | Unincorporated areas Escambia County (13-04-5544P) | The Honorable Gene M. Valentino, Chairman, Escambia County Board of Commissioners, 221 Palafox Place, Suite 400, Pensacola, FL 32502 | Escambia County Department of Planning and Zoning, 3363 West Park Place, Pensacola, FL 32505 | December 6, 2013 | 120080
Monroe (FEMA Docket No.: B-1350) | Unincorporated areas of Monroe County (13-04-3827P) | The Honorable George Neugent, Mayor, Monroe County, 1100 Simonton Street, Key West, FL 33040 | Monroe County Department of Planning and Environmental Resources, 2798 Overseas Highway, Marathon, FL 33050 | November 7, 2013 | 125129
Monroe (FEMA Docket No.: B-1350) | Unincorporated areas of Monroe County (13-04-4343P) | The Honorable George Neugent, Mayor, Monroe County, 1100 Simonton Street, Key West, FL 33040 | Monroe County Department of Planning and Environmental Resources, 2798 Overseas Highway, Marathon, FL 33050 | November 12, 2013 | 125129
Monroe (FEMA Docket No.: B-1350) | Village of Islamorada (13-04-4008P) | The Honorable Ken Philipson, Mayor, Village of Islamorada, 86800 Overseas Highway, Islamorada, FL 33036 | Village Hall, 87000 Overseas Highway, Islamorada, FL 33036 | November 22, 2013 | 120424
Orange (FEMA Docket No.: B-1350) | City of Orlando (12-04-5226P) | The Honorable Buddy Dyer, Mayor, City of Orlando, P.O. Box 4990, Orlando, FL 32808 | Permitting Services Department, 400 South Orange Avenue, Orlando, FL 32801 | November 29, 2013 | 120186
Orange (FEMA Docket No.: B-1350) | City of Orlando (12-04-1624P) | The Honorable Buddy Dyer, Mayor, City of Orlando, P.O. Box 4990, Orlando, FL 32808 | Permitting Services Department, 400 South Orange Avenue, Orlando, FL 32801 | November 8, 2013 | 120186
Osceola (FEMA Docket No.: B-1350) | Unincorporated areas of Osceola County (13-04-2911P) | The Honorable Frank Attkisson, Chairman, Osceola County Board of Commissioners, 1 Courthouse Square, Suite 4700, Kissimmee, FL 34741 | Osceola County Stormwater Section, 1 Courthouse Square, Suite 1400, Kissimmee, FL 34741 | December 13, 2013 | 120189
Pinellas (FEMA Docket No.: B-1350) | City of Treasure Island (13-04-4871P) | The Honorable Robert Minning, Mayor, City of Treasure Island, 120 108th Avenue, Treasure Island, FL 33706 | City Hall Building Department, 120 108th Avenue, Treasure Island, FL 33706 | November 28, 2013 | 125153
Sarasota (FEMA Docket No.: B-1350) | Unincorporated areas of Sarasota County (13-04-2683P) | The Honorable Carolyn Mason, Chair, Sarasota County Commission, 1660 Ringling Boulevard, Sarasota, FL 34236 | Sarasota County Operations Center, 1001 Sarasota Center Boulevard, Sarasota, FL 34236 | November 8, 2013 | 125144
St. Johns (FEMA Docket No.: B-1350) | Unincorporated areas of St. Johns County (13-04-0459P) | The Honorable Jay Morris, Chairman, St. Johns County Board of Commissioners, 500 San Sebastian View, St. Augustine, FL 32084 | St. Johns County Growth Management Department, 4040 Lewis Speedway St., Augustine, FL 32084 | December 16, 2013 | 125147
St. Johns (FEMA Docket No.: B-1350) | Unincorporated areas of St. Johns County (13-04-3658P) | The Honorable Jay Morris, Chairman, St. Johns County Board of Commissioners, 500 San Sebastian View St., Augustine, FL 32084 | St. Johns County Growth Management Department, 4040 Lewis Speedway St., Augustine, FL 32084 | December 13, 2013 | 125147
Georgia: Columbia (FEMA Docket No.: B-1350) | Unincorporated areas of Columbia County (13-04-3713P) | The Honorable Ron C. Cross, Chairman, Columbia County Board of Commissioners, P.O. Box 498, Evans, GA 30809 | Columbia County Department of Planning and Engineering, P.O. Box 498, Evans, GA 30809 | December 5, 2013 | 130059
Hawaii: Hawaii (FEMA Docket No.: B-1350) | Hawaii County (13-09-2122P) | The Honorable William P. Kenoi, Mayor, County of Hawaii, 25 Aupuni Street, Hilo, HI 96720 | Hawaii County Public Works Department, 101 Pauahi Street, Suite 7, Hilo, HI 96720 | December 16, 2013 | 155166
Kentucky: Jefferson (FEMA Docket No.: B-1350) | Louisville-Jefferson County Metro Government (13-04-4613P) | The Honorable Greg Fisher, Mayor, Louisville-Jefferson County Metro Government, 527 West Jefferson Street, Louisville, KY 40202 | Louisville-Jefferson County Metropolitan Sewer District, 700 West Liberty Street, Louisville, KY 40203 | December 6, 2013 | 210120
Montana: Lincoln (FEMA Docket No.: B-1350) | Unincorporated areas of Lincoln County (13-08-0330P) | The Honorable Tony Berget, Chairman, Lincoln County Board of Commissioners, 512 California Avenue, Libby, MT 59923 | Lincoln County Emergency Management Department, 925 East Spruce Street, Libby, MT 59923 | December 9, 2013 | 300157
Nevada:
Clark (FEMA Docket No.: B-1350) | City of Henderson (13-09-1602P) | The Honorable Andy A. Hafen, Mayor, City of Henderson, Henderson City Hall, P.O. Box 95050, Henderson, NV 89009 | Public Works Department, 240 Water Street, Henderson, NV 89015 | November 1, 2013 | 320005
Clark (FEMA Docket No.: B-1350) | City of Henderson (13-09-1966P) | The Honorable Andy A. Hafen, Mayor, City of Henderson, Henderson City Hall, P.O. Box 95050, Henderson, NV 89009 | Public Works Department, 240 Water Street, Henderson, NV 89015 | November 29, 2013 | 320005
North Carolina:
Buncombe (FEMA Docket No.: B-1350) | City of Asheville (13-04-4986P) | The Honorable Terry M. Bellamy, Mayor, City of Asheville, P.O. Box 7148, Asheville, NC 28802 | Development Services Department, 161 South Charlotte Street, Asheville, NC 28801 | November 12, 2013 | 370032
Davie (FEMA Docket No.: B-1350) | Unincorporated areas of Davie County (12-04-4913P) | The Honorable Beth Dirks, Davie County Manager, 123 South Main Street, 2nd Floor, Mocksville, NC 27028 | Davie County Development Services Department, 298 East Depot Street, Suite 100, Mocksville, NC 27028 | November 15, 2013 | 370308
Forsyth (FEMA Docket No.: B-1350) | City of Winston-Salem (11-04-3398P) | The Honorable Allen Joines, Mayor, City of Winston-Salem, 101 North Main Street, Suite 150, Winston-Salem, NC 27101 | Inspections Department, 100 East 1st Street, Suite 328, Winston-Salem, NC 27101 | October 15, 2013 | 375360
Wake (FEMA Docket No.: B-1350) | Town of Cary (12-04-3992P) | The Honorable Harold Weinbrecht, Mayor, Town of Cary, P.O. Box 8005, Cary, NC 27512 | Stormwater Services Office, 316 North Academy Street, Cary, NC 27513 | November 7, 2013 | 370238
South Carolina: Horry (FEMA Docket No.: B-1350) | City of North Myrtle Beach (13-04-2856P) | The Honorable Marilyn Hatley, Mayor, City of North Myrtle Beach, 1018 2nd Avenue South, North Myrtle Beach, SC 29582 | Planning and Development Department, 1018 2nd Avenue South, North Myrtle Beach, SC 29582 | November 29, 2013 | 450110
Washington: Spokane (FEMA Docket No.: B-1350) | City of Cheney (13-10-0843P) | The Honorable Tom Trulove, Mayor, City of Cheney, 609 2nd Street, Cheney, WA 99004 | Public Works Department, 112 Anderson Road, Cheney, WA 99004 | December 6, 2013 | 530175

(Catalog of Federal Domestic Assistance No. 97.022, “Flood Insurance.”)

Dated: January 31, 2014.
Roy E. Wright,
Deputy Associate Administrator for Mitigation, Department of Homeland Security, Federal Emergency Management Agency.

[FR Doc. 2014-05733 Filed 3-14-14; 8:45 am]

BILLING CODE 9110-12-P